NATIONAL CAPITAL PLANNING COMMISSION

Public Comment on Draft, Updated Submission Guidelines

AGENCY: National Capital Planning Commission.

ACTION: Notice of 45 day public comment period and public meetings.

SUMMARY: The National Capital Planning Commission (NCPC or Commission) has released a draft of updated Submission Guidelines (Submission Guidelines). Federal and non-federal agency applicants whose development proposals are subject to statutory mandated Commission plan and project review must submit their proposals to the Commission following a process laid out in the Submission Guidelines. The Submission Guidelines describe the content of submissions, the submission stages, and the coordination and review process governing submissions. While the Submission Guidelines are critical to the Commission's ability to carry out its planning and review authorities, they have not been updated since October 3, 1991. As such, NCPC staff prepared recommendations to update the Submission Guidelines to ensure they are clear, consistent with agency policy and easily accessible to applicants. The proposed Guidelines accomplish three primary objectives: (1) Create clear, accessible, and efficient guidelines that are responsive to applicant needs; (2) Align NCPC's review stages and National Environmental Policy Act requirements with those of applicant agencies to save time and resources in the planning process; and (3) Allow staff to exempt from Commission review certain minor projects based on specific criteria where there is no federal interest. The draft Submission Guidelines offered for public comment are available online at www.ncpc.gov.

Dates and Time: The public comment period closes on June 26, 2017. Public meetings to discuss the draft submission Guidelines will be held on Tuesday, May 23, 2017 from 6:00 p.m.-7:30 p.m. and Thursday, May 25, 2017 from 9:30 a.m.-11:00 a.m. Both meetings will be held at the National Capital Planning Commission, 401 9th Street NW., Suite 500, Washington, DC 20004.

ADDRESSES: You may submit written comments on the draft Submission Guidelines by either of the methods listed below.

1. U.S. mail, courier, or hand delivery: Urban Design Plan Review Division/National Capital Planning Commission, 401 9th Street NW., Suite 500, Washington, DC 20004.

2. Electronically: submission@ncpc.gov.

FOR FURTHER INFORMATION CONTACT: Matthew Flis, Senior Urban Designer at (202) 482-7236 or submission@ncpc.gov.

Authority: 40 U.S.C. 8721(e)(2) and 8722(a).

Dated: May 5, 2017.
Anne R. Schuyler,
General Counsel.

[FR Doc. 2017-09479 Filed 5-9-17; 8:45 am]

BILLING CODE 7520-01-P